DEPARTMENT OF HEALTH AND HUMAN SERVICES

National Institutes of Health

Office of Loan Repayment and Scholarship; Submission for OMB Review; Comment Request; National Institutes of Health Loan Repayment Programs

SUMMARY: Under the provision of section 3507(a)(1)(D) of the Paperwork Reduction Act of 1995, the Office of the Director, the National Institutes of Health (NIH), has submitted to the Office of Management and Budget (OMB) a request to review and approve the information collection listed below. This proposed information collection was previously published in the Federal Register on August 20, 2001, pages 43590 to 43591 and allowed 60 days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection: Title: National Institutes of Health Loan Repayment Programs. Type of Information Collection Request: Revision of a currently approved collection (OMB No. 0925-0361, expiration date 11/30/01). Form Numbers: NIH 2674-1, NIH 2674-2, NIH 2674-3, NIH 2674-4, NIH 2674-5, NIH 2674-6, NIH 2674-7, NIH 2674-8, NIH 2674-9, NIH 2674-10, NIH 2674-11, and NIH 2674-12. Need and Use of Information Collection: The NIH makes available financial assistance, in the form of educational loan repayment, to M.D., Ph.D., Pharm.D., D.D.S., D.M.D., D.P.M., D.C., and N.D. degree holders, or the equivalent, who perform clinical, biomedical, contraception and infertility, biobehavioral, minority health disparities, or other health disparities research for a minimum of 2 years (3 years for the General Research LRP). For intramural LRPs, the qualifying research must be performed in NIH intramural laboratories. For extramural LRPs, the qualifying research may be performed as NIH extramural grantees, as employees or affiliates of the National Institute of Child Health and Human Development extramural sites, or as employees or affiliates of other public or private research institutions.

The AIDS Research Loan Repayment Program (AIDS-LRP) is authorized by section 487A of the Public Health Service (PHS) Act (42 U.S.C. 288-1); the Contraception and Infertility LRP (CIR-LRP) is authorized by section 487B of the PHS Act (42 U.S.C. 288-2); the General Research LRP (GR-LRP) is authorized by section 487C of the PHS Act (42 U.S.C. 288-3); the Clinical Research LRP for Individuals from Disadvantaged Backgrounds (CR-LRP) is authorized by section 487E (42 U.S.C. 288-5). The Consolidated Appropriations Act of 2001 (Pub. L. 106-554) amended section 487E of the PHS Act to allow expansion of the existing CR-LRP to include health professionals who are not employees of the NIH. The expanded program is known as the Extramural Clinical Research LRP for Individuals from Disadvantaged Backgrounds (ECR-LRP); the LRP for Minority Health Disparities Research (HDR-LRP) is authorized by section 485G of the PHS Act (43 U.S.C. 287c-33); the LRP Regarding Clinical Researchers (LRP-CR) is authorized by section 487F (42 U.S.C. 288-5a); and the Pediatric Research LRP (PR-LRP) is authorized by section 487F (42 U.S.C. 288-6).

The loan repayment programs provide for the repayment of up to $35,000 a year of the principal and interest of the educational loan debt of qualified health professionals who agree to conduct qualifying research for each year of obligated service. Applicants must have total qualifying educational debt equal to or in excess of 20 percent of their annual salary or compensation on the expected date of program eligibility. The information proposed for collection will be used to determine an applicant's eligibility for participation in the program. Frequency of Response: Initial application and annual renewal application. Affected Public: Applicants, financial institutions, research institutions, recommenders. Type of Respondents: Physicians, other scientific or medical personnel, and institutional representatives. The annual reporting burden for the intramural programs (AIDS-LRP, CR-LRP, and GR-LRP) is as follows:

Type of respondents | Number of respondents | Frequency of response | Average hours per response | Annual hour burden
Applicants | 75 | 1.0 | 11.52 | 864.00
Recommenders | 225 | 1.0 | 0.50 | 112.50
Financial Institutions | 375 | 1.0 | 0.33 | 123.86
Totals | 675 |  |  | 1,100.25

The annual reporting burden for the extramural programs (CIR-LRP, ECR-LRP, HDR-LRP, LRP-CR and PR-LRP) is as follows:

Type of respondents | Number of respondents | Frequency of response | Average hours per response | Annual hour burden
Applicants | 670 | 1.0 | 12.20 | 8,174
Recommenders | 2,010 | 1.0 | 0.50 | 1,005
Advisors/Supervisors | 670 | 1.0 | 1.50 | 1,005
Research Institutions | 670 | 1.0 | 0.33 | 221
Financial Institutions | 3,350 | 1.0 | 0.33 | 1,106
Totals | 7,370 |  |  | 11,511

The annualized cost to respondents is estimated at $361,193. There are no capital costs, operating costs, or maintenance costs to report.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, New Executive Office Building, Room 10235, Washington, DC 20503, Attention: Desk Officer for NIH. Additional information on the proposed project or a copy of the data collection plans and instruments may be obtained by calling or writing: Marc S. Horowitz, J.D., Director, Office of Loan Repayment and Scholarship, National Institutes of Health, 2 Center Drive, Room 2E30, Bethesda, Maryland 20892-0230 or call non-toll-free (301) 402-5666 or e-mail your request, including your address, to lrp@nih.gov.

Comments Due Date: Comments regarding this information collection are best assured of having their full effect if received within 30 days of the date of this publication.

Dated: November 19, 2001.
Yvonne T. Maddox,
Acting Deputy Director, National Institutes of Health.

[FR Doc. 01-29541 Filed 11-27-01; 8:45 am]

BILLING CODE 4140-01-M